ENVIRONMENTAL PROTECTION AGENCY

40 CFR Part 52

[IN141-1a; FRL-7273-5]

Approval and Promulgation of Implementation Plans; Indiana; Volatile Organic Compound Regulations

AGENCY: Environmental Protection Agency (EPA).

ACTION: Direct final rule.

SUMMARY: In this action, EPA is approving a revision to the Indiana State Implementation Plan (SIP) to add Volatile Organic Compound (VOC) capture efficiency testing procedures to the existing VOC emission control regulations. Control system capture efficiency requirements are components of several State VOC rules, particularly the rules covering the control of VOC emissions from surface coating and graphic arts sources. The existing State VOC rules specify minimum capture efficiencies for some source categories, and some sources may seek VOC emission reduction credits through increases in capture efficiency above State-specified minimums. Reducing VOC emissions is critical for attaining the 1-hour ozone standard in certain ozone nonattainment areas.

DATES: This direct final rule is effective on November 12, 2002, without further notice, unless EPA receives adverse comments in writing by October 11, 2002. If adverse comment is received, EPA will publish a timely withdrawal of the direct final rule in the Federal Register and inform the public that the rule will not take effect.

ADDRESSES: Written comments should be sent to: J. Elmer Bortzer, Chief, Regulation Development Section, Air Programs Branch (AR-18J), Environmental Protection Agency, Region 5, 77 West Jackson Boulevard, Chicago, Illinois 60604.

Copies of the State's submittal and other supporting information used in developing this direct final rule are available for inspection at the Environmental Protection Agency, Region 5, 77 West Jackson Boulevard, Chicago, Illinois 60604. Please telephone Edward Doty at (312) 886-6057 before visiting the Region 5 office.

FOR FURTHER INFORMATION CONTACT: Edward Doty, Environmental Scientist, Regulation Development Section, Air Programs Branch (AR-18J), Environmental Protection Agency, Region 5, 77 West Jackson Boulevard, Chicago, Illinois 60604. Telephone: (312) 886-6057. E-mail address: doty.edward@epa.gov.

SUPPLEMENTARY INFORMATION: Throughout this document, wherever “we,” “us,” or “our” are used we mean EPA. The Supplemental Information section is organized as follows:

I. Background and EPA Policy

What Is the Basis for the State's Requested SIP Revision?

What Are the Codified Capture Efficiency Test Methods?

What Are the Alternative Capture Efficiency Test Protocols?

II. Summary of the State's Submittal and Requested SIP Revision

III. Adequacy of the Requested SIP Revision

IV. Final Rulemaking Action

V. Administrative Requirements

I. Background and EPA Policy

What Is the Basis for the State's Requested SIP Revision?

Capture efficiency (the fraction of emissions generated by a source that are delivered to an emissions control device, generally expressed as a percentage) is a critical consideration for emission control systems, particularly for those systems used to control the emissions of VOC and Hazardous Air Pollutants (HAPs) from surface coating and printing (graphic arts) operations. Testing of capture efficiencies is critical for sources subject to rules with capture efficiency requirements and for sources seeking emission reduction credits through capture efficiency improvements (capture efficiency increases).

On February 7, 1995, the EPA issued revised guidelines for the determination of VOC capture efficiencies under a memorandum titled “Revised Capture Efficiency Guidance for Control of Volatile Organic Compound Emissions,” from John S. Seitz, Director of the Office of Air Quality Planning and Standards, to Air Division Directors, Regions I through X. Included in the guidance are discussions of recommended capture efficiency testing protocols and test methods and requirements for alternative capture efficiency test protocols.¹ The guidance identified seven test methods which would be proposed in a subsequent Federal Register for addition to volume 40 of the Code of Federal Regulations (CFR) part 51, appendix M. The guidance issued on February 7, 1995 also provided specifics on the requirements for two alternative capture efficiency test protocols.

¹ Protocols specify minimum statistical requirements and data processing requirements for analysis of test results. The protocols are coupled with test methods to provide a complete specification of the capture efficiency test procedures and data requirements.

On May 30, 1996, the EPA published a rule covering final standards for Hazardous Air Pollutants (HAP) emissions from the printing and publishing industry (61 FR 27132). Included in this final rule are the seven capture efficiency test methods and two protocols for the use of alternative capture efficiency test methods contained in the February 7, 1995 guidance. This rule contains VOC capture efficiency test methods and protocols for the purposes of measuring HAP capture efficiencies.

Indiana's requested SIP revision seeks to incorporate the capture efficiency test methods and alternative protocols into the SIP. As noted below in more detail, the State has adopted VOC rule revisions to incorporate these VOC testing requirements.

What Are the Codified Capture Efficiency Test Methods?

The capture efficiency test methods specified in 40 CFR part 51, appendix M, are as follows:

(A) Method 204—Criteria for and Verification of a Permanent or Temporary Total Enclosure;

(B) Method 204A—Volatile Organic Compounds Content in Liquid Input Stream;

(C) Method 204B—Volatile Organic Compounds Emissions in Captured Stream;

(D) Method 204C—Volatile Organic Compounds Emissions in Captured Stream (Dilution Technique);

(E) Method 204D—Volatile Organic Compounds Emissions in Uncaptured Stream from Temporary Total Enclosure;

(F) Method 204E—Volatile Organic Compounds Emissions in Uncaptured Stream from Building Enclosure; and

(G) Method 204F—Volatile Organic Compounds Content in Liquid Input Stream (Distillation Approach).

Note that these recommended capture efficiency test methods involve the use of a Permanent Total Enclosure (PTE), a Temporary Total Enclosure (TTE), or a Building Enclosure (BE). All of the total enclosure methods are capable of determining quantitative values of capture efficiencies, and may be used to demonstrate capture efficiency improvements.

What Are the Alternative Capture Efficiency Test Protocols?

The two alternative test protocols identified in the February 7, 1995 guidance are the Data Quality Objective (DQO) and the Lower Confidence Limit (LCL) protocols. Either of these protocols allows the use of alternative test procedures to determine qualitative estimates of capture efficiencies. They may be applied without the use of total enclosures and are intended to reduce the costs of capture efficiency testing, as compared to the costs associated with the use of PTEs, TTEs, or BEs. Based on the February 7, 1995 capture efficiency testing guidance, the DQO or LCL coupled with capture efficiency test methods may be used to demonstrate compliance with VOC capture efficiency requirements.²

² The guidance notes that either the DQO or the LCL may be used to demonstrate compliance with capture efficiency requirements. The LCL, however, which is designed to be very conservative, is not appropriate to demonstrate non-compliance with capture efficiency requirements. Where use of the LCL protocol shows possible non-compliance, additional capture efficiency tests must be applied to demonstrate actual non-compliance.

II. Summary of the State's Submittal and Requested SIP Revision

The State of Indiana has incorporated the Methods 204 through 204F test methods and DQO and LCL test protocols by reference into the State's VOC emission control regulations at rule 326 Indiana Administrative Code 8-1-4 (326 IAC 8-1-4), published in the Indiana Register on August 1, 2001 as a final State rule. On August 8, 2001, the Indiana Department of Environmental Management (IDEM) submitted the new testing procedures rule and associated other rule revisions (primarily minor rule formatting revisions needed to properly reference the new capture efficiency test requirements) to the EPA as a requested SIP revision.

Indiana has added a subsection (c)(1) to 326 IAC 8-1-4 to incorporate by reference the capture efficiency test methods (Methods 204 through 204F) specified in 40 CFR part 51, appendix M. Indiana has also added subsection (c)(2) to 326 IAC 8-1-4 to provide for the use of the two alternative test protocols (DQO and LCL), as specified in 40 CFR part 63, subpart KK, appendix A. These alternative protocols are identical to those described in the VOC capture efficiency guidance released on February 7, 1995.

All other rule revisions documented in Indiana's August 8, 2001 SIP revision request are, as noted above, primarily minor rule formatting and reference changes needed to accommodate the new VOC capture efficiency regulations. Indiana has also made several minor rule revisions to correct addresses for the location of review copies of the referenced documents and for the American Society for Testing and Materials.

III. Adequacy of the Requested SIP Revision

The proposed SIP revision incorporates EPA's capture efficiency testing requirements by reference and otherwise meets EPA's guidelines for capture efficiency testing. The SIP revision will lead to monitored VOC capture efficiencies that will be adequately recorded and reported and that can be tested against specified limits within Indiana's VOC rules. The capture efficiency test procedures and results can be adequately enforced. Therefore, EPA finds this rule to be acceptable.

IV. Final Rulemaking Action

EPA approves Indiana's revisions to rule 326 IAC 8-1-4 as a revision to the SIP. This action will be effective on November 12, 2002.

EPA is publishing this action without prior proposal because EPA views this as a noncontroversial revision and anticipates no adverse comments. However, in a separate document in this Federal Register publication, EPA is proposing to approve the SIP revision should adverse written comments be filed. This action will be effective without further notice unless EPA receives relevant adverse written comment by October 11, 2002. Should the EPA receive such comments, it will publish a withdrawal informing the public that this action will not take effect. Any parties interested in commenting on this action should do so at this time. If no such comments are received, this action will be effective on November 12, 2002.

V. Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). This rule also does not have a substantial direct effect on one or more Indian tribes, on the relationship between the federal Government and Indian tribes, or on the distribution of power and responsibilities between the federal Government and Indian tribes, as specified by Executive Order 13175 (65 FR 67249, November 9, 2000), nor will it have substantial direct effects on the states, on the relationship between the national government and the states, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

Section 12 of the National Technology Transfer and Advancement Act (NTTAA) of 1995 requires Federal agencies to evaluate existing technical standards when developing a new regulation. To comply with NTTAA, EPA must consider and use “voluntary consensus standards” (VCS) if available and applicable when developing programs and policies unless doing so would be inconsistent with applicable law or otherwise impractical.

The EPA believes that VCS are inapplicable to this action. Today's action does not require the public to perform activities conducive to the use of VCS. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

This rule will be effective October 11, 2002.

Under section 307(b)(1) of the Act, petitions for judicial review of this action must be filed in the United States Court of Appeals for the appropriate circuit by November 12, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Reporting and recordkeeping requirements, Volatile organic compounds.

Dated: August 23, 2002.
Gary Gulezian,
Acting Regional Administrator, Region 5.

For the reasons stated in the preamble, part 52, chapter I, title 40 of the Code of Federal Regulations is amended as follows:

PART 52—[AMENDED]

1. The authority citation for part 52 continues to read as follows:

Authority: 42 U.S.C. 7401 et seq.

Subpart P—Indiana

2. Section 52.770 is amended by adding paragraph (c) (148) to read as follows:

§ 52.770 Identification of plan.

* * * * *

(c) * * *

(148) On August 8, 2001, the State submitted rules to incorporate by reference Federal capture efficiency test methods. The submittal amends 326 IAC 8-1-4.

(i) Incorporation by reference.

Title 326: Air Pollution Control Board; Article 8: Volatile Organic Compound Rules; Rule 1: General Provisions; Section 4: Testing procedures. Filed with the Secretary of State on June 15, 2001 and effective on July 15, 2001. Published in 24 Indiana Register 3619 on August 1, 2001.

* * * * *

[FR Doc. 02-22979 Filed 9-10-02; 8:45 am]

BILLING CODE 6560-50-P